DEPARTMENT OF COMMERCE

International Trade Administration

[A-580-810]

Welded ASTM A-312 Stainless Steel Pipe From the Republic of Korea: Preliminary Results of Antidumping Duty Administrative Review; 2014-2015

AGENCY: Enforcement and Compliance, International Trade Administration, Department of Commerce.

SUMMARY: The Department of Commerce (Department) is conducting an administrative review of the antidumping duty order on welded ASTM A-312 stainless steel pipe from Republic of Korea (Korea). The period of review (POR) is December 1, 2014, through November 30, 2015. The review covers two exporters and/or producers of the subject merchandise: SeAH Steel Corporation (SeAH) and LS Metal Co., Ltd. (LS Metal). The Department preliminarily determines that during the POR SeAH made sales of subject merchandise at less than normal value and LS Metal had no shipments. We invite interested parties to comment on these preliminary results.

DATES: Effective December 30, 2016.

FOR FURTHER INFORMATION CONTACT: Lingjun Wang, AD/CVD Operations, Office VII, Enforcement and Compliance, International Trade Administration, U.S. Department of Commerce, 1401 Constitution Avenue NW., Washington, DC 20230; telephone: (202) 482-2316.

SUPPLEMENTARY INFORMATION:

Background

On February 9, 2016, the Department published a notice of initiation of this review.¹ On January 27, 2016, the Department exercised its discretion to toll all administrative deadlines by four business days.² On May 3, 2016 and December 13, 2016, the Department extended the deadline for the preliminary results to December 20, 2016.³ For a complete description of the events that followed the initiation of this review, see the Preliminary Decision Memorandum.⁴ A list of topics included in the Preliminary Decision Memorandum is included as Appendix I.

¹ See Initiation of Antidumping and Countervailing Duty Administrative Reviews, 81 FR 6832 (February 9, 2016).

² See the Department's January 27, 2016 memorandum, “Tolling of Administrative Deadlines as a Result of the Government Closure during Snowstorm `Jonas.' ”

³ See the Department's August 15, 2016 memorandum, “Certain Welded ASTM A-312 Stainless Steel Pipe from the Republic of Korea: Extension of Deadline for Preliminary Results of Antidumping Duty Administrative Review;” see also, the Department's December 13, 2016 memorandum, “Certain Welded ASTM A-312 Stainless Steel Pipe from the Republic of Korea: Extension of Deadline for Preliminary Results of Antidumping Duty Administrative Review.”

⁴ See “Decision Memorandum for the Preliminary Results of the Antidumping Duty Administrative Review: Welded ASTM A-312 Stainless Steel Pipe from the Republic of Korea; 2014-2015,” dated concurrently with this notice (Preliminary Decision Memorandum).

Scope of the Order

The products covered by this order are shipments of welded austenitic stainless steel pipe (WSSP) from Korea that meets the standards and specifications set forth by the American Society for Testing and Materials (ASTM) for the welded form of chromium-nickel pipe designated ASTM A-312. Imports of these products are currently classifiable under the following United States Harmonized Tariff Schedule (HTSUS) subheadings: 7306.40.5005, 7306.40.5015, 7306.40.5040, 7306.40.5065, and 7306.40.5085.⁵

⁵ For a full description of the scope of the Order, see Preliminary Decision Memorandum.

Preliminary Determination of No Shipments

LS Metal, in its questionnaire response, claimed that it made no sales or shipments of subject merchandise during the POR. We issued a no shipments inquiry to, and received no contradictory information from, U.S. Customs and Border Protection (CBP). As there is no record information contrary to LS Metal's claim, we preliminarily determine that LS Metal had no shipments of the subject merchandise and, therefore, no reviewable transactions during the POR. The Department intends to complete the review with respect to LS Metal and will issue appropriate instructions to CBP based on the final results of this review. See the Preliminary Decision Memorandum for further discussion of this issue.

Methodology

The Department is conducting this review in accordance with section 751(a)(2) of the Tariff Act of 1930, as amended (the Act). Constructed export prices or export prices are calculated in accordance with section 772 of the Act. Normal value is calculated in accordance with section 773 of the Act.

For a full description of the methodology underlying these preliminary results, see the Preliminary Decision Memorandum. A list of the topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov, and is available to all parties in the Central Records Unit, room B8024 of the Department's main building. In addition, a complete version of the Preliminary Decision Memorandum can be accessed directly on the internet at http://www.trade.gov/enforcement/. The signed Preliminary Decision Memorandum and the electronic versions of the Preliminary Decision Memorandum are identical in content.

Preliminary Results of Review

As a result of this review, we preliminarily determine that the weighted-average dumping margin for the POR is as follows:

Producer and/or exporter | Margin (percent)
SeAH Steel Corporation | 1.91

Assessment Rate

Upon issuance of the final results, the Department shall determine, and CBP shall assess, antidumping duties on all appropriate entries covered by this review. For any individually examined respondents whose weighted-average dumping margin is above de minimis, we will calculate importer-specific ad valorem duty assessment rates based on the ratio of the total amount of dumping calculated for the importer's examined sales to the total entered value of those same sales in accordance with 19 CFR 351.212(b)(1).⁶ We will instruct CBP to assess antidumping duties on all appropriate entries covered by this review when the importer-specific assessment rate calculated in the final results is above de minimis (i.e., 0.50 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

⁶ See Antidumping Proceedings: Calculation of the Weighted-Average Dumping Margin and Assessment Rate in Certain Antidumping Proceedings: Final Modification, 77 FR 8101, 8102 (February 14, 2012).

The Department clarified its “automatic assessment” regulation on May 6, 2003.⁷ This clarification applies to entries of subject merchandise during the POR produced by a respondent for which it did not know its merchandise was destined for the United States. In such instances, we will instruct CBP to liquidate unreviewed entries at the all-others rate if there is no rate for the intermediate company or companies involved in the transaction.

⁷ For a full discussion of this clarification, see Antidumping and Countervailing Duty Proceedings: Assessment of Antidumping Duties, 68 FR 23954 (May 6, 2003) (Assessment Policy Notice).

We intend to issue instructions to CBP 15 days after publication of the final results of this review.

Cash Deposit Requirements

The following cash deposit requirements will be effective upon publication of the notice of final results of this review for all shipments of subject merchandise entered, or withdrawn from warehouse, for consumption on or after the publication date, as provided by section 751(a)(2)(C) of the Act: (1) The cash deposit rate for the companies under review will be equal to the weighted-average dumping margin established in the final results of this review except if that rate is de minimis within the meaning of 19 CFR 351.106(c)(1), in which case the cash deposit rate will be zero; (2) for merchandise exported by manufacturers or exporters not covered in this review but covered in a prior completed segment of the proceeding, the cash deposit rate will continue to be the company-specific rate published for the most recently completed segment of this proceeding in which the manufacturer or exporter participated; (3) if the exporter is not a firm covered in this review, a prior review, or the original investigation, but the manufacturer is, then the cash deposit rate will be the rate established for the most recently completed segment of this proceeding for the manufacturer of the merchandise; and (4) if neither the exporter nor the manufacturer is a firm covered in this or any previously completed segment of this proceeding, then the cash deposit rate will be the “all-others” rate of 7.00 percent established in the Amended Final Determination and Order.⁸ These deposit requirements, when imposed, shall remain in effect until further notice.

⁸ See Notice of Amended Final Determination and Antidumping Duty Order: Certain Welded Stainless Steel Pipe from the Republic of Korea, 60 FR 10064 (February 23, 1995) (Amended Final Determination and Order).

Disclosure and Public Comment

The Department intends to disclose the calculations performed in connection with these preliminary results within five days after the date of publication of this notice in accordance with 19 CFR 351.224(b).

Interested parties may submit case briefs no later than 30 days after the publication date of this notice.⁹ Rebuttal briefs, limited to issues raised in the case briefs, may be filed not later than five days after the date for filing case briefs.¹⁰ Parties who submit case briefs or rebuttal briefs are requested to submit with each argument: (1) A statement of the issue; (2) a brief summary of the argument; and (3) a table of authorities.¹¹ Executive summaries should be limited to five pages total, including footnotes.¹² All briefs must be filed electronically via ACCESS.¹³ An electronically filed document must be received successfully in its entirety by ACCESS, by 5:00 p.m. Eastern Time on the on which it is due.¹⁴

⁹ See 19 CFR 351.303 (for general filing requirements).

¹⁰ See 19 CFR 351.309(c) and (d).

¹¹ See 19 CFR 351.309(c)(2) and (d)(2).

¹² Id.

¹³ See 19 CFR 351.303.

¹⁴ See 19 CFR 351.303(b)(1).

Pursuant to 19 CFR 351.310(c), interested parties who wish to request a hearing must submit a written request to the Assistant Secretary for Enforcement and Compliance within 30 days of the publication date of this notice, filed electronically via ACCESS. Requests should contain: (1) The party's name, address and telephone number; (2) the number of participants; and (3) a list of issues parties intend to discuss. Issues raised in the hearing will be limited to those raised in the respective case and rebuttal briefs. If a request for a hearing is made, the Department intends to hold the hearing at the U.S. Department of Commerce, 14th Street and Constitution Avenue NW., Washington, DC 20230, at a date and time to be determined.¹⁵ Parties should confirm by telephone the date, time, and location of the hearing two days before the scheduled date.

¹⁵ See 19 CFR 351.310(d).

We intend to issue the final results of this review within 120 days after the date of publication of this notice, unless otherwise extended.¹⁶

¹⁶ See section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification to Interested Parties

These preliminary results of this review are issued and published in accordance with sections 751(a)(1) and 777(i)(1) of the Act and 19 CFR 351.213(h).

Dated: December 20, 2016.
Paul Piquado,
Assistant Secretary for Enforcement and Compliance.

Appendix—List of Topics Discussed in the Preliminary Decision Memorandum:

I. Summary

II. Background

III. Scope of the Order

IV. No Shipments

V. Discussion of Methodology

A. Comparisons to Normal Value

B. Date of Sale

C. Product Comparisons

D. Constructed Export Price

E. Normal Value

F. Cost of Production Analysis

G. Calculation of Normal Value Based on Comparison Market Prices

H. Currency Conversion

VI. Recommendation

[FR Doc. 2016-31728 Filed 12-29-16; 8:45 am]

BILLING CODE 3510-DS-P